COMMODITY FUTURES TRADING COMMISSION

Notice of the First Meeting of the Technology Advisory Committee

This is to give notice, pursuant to Section 10(a)(2) of the Federal Advisory Committee Act, 5 U.S.C. App. 2, 10(a)(2), and Section 101-6.1015(b) of the regulations promulgated thereunder, 41 CFR 101-6.1015(b), that the Commodity Futures Trading Commission's Technology Advisory Committee (“TAC”) will conduct a public meeting to discuss current issues related to technology in the futures and option markets. The meeting will be held on April 25, 2000, from 1:00 p.m. to 4:00 p.m., in the first floor hearing room (Room 1000) of the Commission's Washington, D.C. headquarters, Three Lafayette Centre, 1155 21st Street, N.W., Washington, D.C. 20581. The agenda for the meeting will be posted on the Commission's website when finalized at http://www.cftc.gov.

The TAC was created by the Commodity Futures Trading Commission for the purpose of receiving advice and recommendations on issues arising out of technological innovation in the financial services marketplace. The purposes and objectives of the TAC are more fully set forth in its charter.

The meeting is open to the public. The Chairman of the TAC, Chairman William J. Rainer, is empowered to conduct the meeting in a fashion that will, in his judgment, facilitate the orderly conduct of business. Any member of the public who wishes to file a written statement with the TAC should mail a copy of the statement prior to the meeting to the attention of: The Technology Advisory Committee, c/o Chairman William J. Rainer, Commodity Futures Trading Commission, Three Lafayette Centre, 1155 21st Street, N.W., Washington, D.C. 20581. Members of the public who wish to make oral statements should also inform Chairman Rainer in writing at the foregoing address at least three business days before the meeting. Reasonable provision will be made, if time permits, for an oral presentation of no more than five minutes each in duration.

For further information contact De'Ana Dow, Legal Counsel to Chairman Rainer, at (202) 418-5038, or Marcia K. Blase, Legal Counsel to Commissioner Newsome, at (202) 418-5138.

Issued by the Commission in Washington, D.C. on April 5, 2000.
Jean A. Webb,
Secretary of the Commission.

[FR Doc. 00-8913 Filed 4-7-00; 8:45 am]

BILLING CODE 6351-01-M